DEPARTMENT OF THE INTERIOR

Bureau of Land Management

[NV-912-1640-PH; 08-08807; TAS: 14X1109]

Notice Public Meetings: Mojave-Southern Great Basin Resource Advisory Council, Nevada

AGENCY: Bureau of Land Management, Interior.

ACTION: Announcement of Meetings.

SUMMARY: In accordance with the Federal Land Policy and Management Act (FLPMA) and the Federal Advisory Committee Act of 1972 (FACA), the U.S. Department of the Interior, Bureau of Land Management (BLM) Mojave-Southern Great Basin Resource Advisory Council (RAC), will meet as indicated below.

DATES AND TIMES: The RAC will meet four times in Fiscal Year 2008: January 10 and 11 at the BLM Las Vegas Field Office at 4701 N. Torrey Pines Drive, Las Vegas, Nevada; May 1 and 2 at the BLM Las Vegas Field Office; June 26 and 27 at the BLM Ely Field Office at 702 N. Industrial Way, Ely, Nevada; and August 14 and 15 at the Caliente Youth Center, U.S. Highway 93 North, Caliente, Nevada. All meetings are open to the public. Meetings generally begin at 8 a.m. and will include a general public comment period, where the public may submit oral or written comments to the RAC. Each public comment period will begin at approximately 1 p.m. unless otherwise listed in each specific, final meeting agenda.

FOR FURTHER INFORMATION CONTACT: Chris Hanefeld, (775) 289-1842, E-mail: chris_hanefeld@nv.blm.gov.

SUPPLEMENTARY INFORMATION: The 15-member council advises the Secretary of the Interior, through the BLM, on a variety of planning and management issues associated with public land management in Nevada.

Topics for discussion at each meeting will include, but are not limited to:

• January 10 and 11, (Las Vegas)—Brownsfield Act, mine closures and renewable energy.

• May 1 and 2, (Las Vegas)—National Conservation Areas, Southern Nevada Public Land Management Act (SNPLMA) Round 9 and special legislation.

• June 26 and 27, (Ely)—abandoned mines, groundwater development and wilderness.

• August 14 and 15, (Caliente)—Healthy Lands Initiative and recreation.

Managers' reports of field office activities will be given at each meeting. The council may raise other topics at any of the four planned meetings.

Final agendas with any additions/corrections to agenda topics, locations, field trips and meeting times will be sent to the media at least 14 days before each meeting. Individuals who need special assistance such as sign language interpretation or other reasonable accommodations, or who wish to receive a copy of each agenda, should contact Chris Hanefeld no later than 10 days prior to each meeting.

Dated: December 18, 2007.
John Ruhs,
Ely Field Office Manager.

[FR Doc. E7-25024 Filed 12-26-07; 8:45 am]

BILLING CODE 4310-HC-P